DEPARTMENT OF THE INTERIOR

Bureau of Land Management

[BLM_NV_FRN_MO4500169446]

Notice of Realty Action: Classification for Recreation and Public Purposes Lease and Conveyance (N-101539) for a Public Park in Las Vegas Valley, Clark County, Nevada

AGENCY: Bureau of Land Management, Interior.

ACTION: Notice of realty action.

SUMMARY: The Bureau of Land Management (BLM), Las Vegas Field Office, has examined and found suitable for classification for lease and subsequent conveyance under the provisions of the Recreation and Public Purposes (R&PP) Act, as amended, approximately 10 acres of public land in the Las Vegas Valley, Clark County, Nevada. Clark County Real Property Management proposes to add the land to the existing Desert Breeze public park for use as public park and appurtenant facilities.

DATES: Interested parties may submit written comments regarding the proposed change in classification for lease and conveyance of the land until September 22, 2023.

ADDRESSES: Mail written comments to the Bureau of Land Management (BLM) Las Vegas Field Office, Assistant Field Manager, Division of Lands, 4701 North Torrey Pines Drive, Las Vegas, Nevada 89130, or fax to (775) 515-5010.

FOR FURTHER INFORMATION CONTACT: Lisa Moody, Realty Specialist, Major Projects for the Las Vegas Field Office, at the above address, by telephone at (702) 515-5084, or by email at emoody@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The parcel is located north of Flamingo Road and west of S Cimarron Road in Las Vegas and is legally described as:

Mount Diablo Meridian, Nevada

T. 21 S., R. 60 E.,

Sec. 16, NE¼NE¼SW¼.

The area described contains approximately 10 acres, according to the official plats of the surveys of said land on file with the BLM.

In accordance with the R&PP Act, Clark County Real Property Management has filed an application to lease and purchase the above-described land to develop as a park site that will consist of Little League Baseball fields, a warmup area, restrooms, a maintenance yard, turf areas, landscaping, irrigation, utilities, and off-site improvements to integrate the new facilities into the existing Desert Breeze Park that is adjacent to the proposed 10-acre project. Additional detailed information pertaining to the BLM's proposed lease and conveyance, the County's plan of development, and the site plan is available in case file N-101539, which is available for review at the BLM Las Vegas Field Office at the above address. Clark County Real Property Management is a political subdivision of the State of Nevada, and is, therefore, a qualified applicant under the R&PP Act.

Subject to limitations prescribed by law and regulation, prior to patent issuance, the holder of any right-of-way grant from the BLM within the lease area would be given the opportunity to amend the right-of-way grant for conversion to a new term, including perpetuity, if applicable.

The land identified is not needed for any Federal purpose. The lease and conveyance is consistent with the BLM Las Vegas Resource Management Plan dated October 5, 1998, and would be in the public interest. Clark County Real Property Management has not applied for more than the 640-acre annual limitation for public purpose uses and has submitted a statement that their application is for a definite project as required by regulations at 43 CFR 2741.4(b).

The lease and conveyance, when issued, will be subject to the provisions of the R&PP Act and applicable regulations of the Secretary of the Interior, and any patent issued will contain the following reservations to the United States:

1. A right-of-way thereon for ditches or canals constructed by the authority of the United States, Act of August 30, 1890 (43 U.S.C. 945); and

2. All minerals shall be reserved to the United States, together with the right to prospect for, mine, and remove such deposits for the same under applicable law and such regulations as the Secretary of the Interior may prescribe; and

Any lease and conveyance will also be subject to valid existing rights, will contain any terms or conditions required by law (including, but not limited to, any terms or conditions required by 43 CFR 2741.4), and will contain an appropriate indemnification clause protecting the United States from claims arising out of the lessee's/patentee's use, occupancy, or operations on the leased/patented lands. It will also contain any other terms and conditions deemed necessary and appropriate by the Authorized Officer.

Under the Southern Nevada Public Land Management Act of 1998 (Pub. L. 105-263) as amended, lands identified for disposal within the Las Vegas Valley are already withdrawn from location and entry under the U.S. mining laws and from operation of the mineral and geothermal leasing laws. Upon publication of this notice in the Federal Register, the land described above will be segregated from all other forms of appropriation under the public land laws, except for lease and conveyance under the R&PP Act.

Interested parties may also submit written comments regarding the specific use proposed in the application and plan of development, and whether the BLM followed proper administrative procedures in reaching the decision to lease and convey under the R&PP Act. Comments on the classification are restricted to whether the land is physically suited for the proposal, whether the use will maximize the future use or uses of the land, whether the use is consistent with local planning and zoning, or if the use is consistent with State and Federal programs.

Before including your address, phone number, email, address, or other personal identifying information in your comment, you should be aware that your entire comment—including your personal identifying information—may be made publicly available at any time. While you can ask us in your comment to withhold your personal identifying information from public review, we cannot guarantee that we will be able to do so. Only written comments submitted to the Assistant Field Manager, BLM Las Vegas Field Office, will be considered properly filed. Any adverse comments on the classification will be reviewed as protests by the BLM Nevada State Director, who may sustain, vacate, or modify this realty action.

In the absence of any adverse comments, the decision will become effective on October 10, 2023. The lands will not be available for lease and conveyance until after the decision becomes effective.

Authority: 43 CFR 2741.5.

Bruce Sillitoe,
Field Manager, Las Vegas Field Office.

[FR Doc. 2023-16946 Filed 8-7-23; 8:45 am]

BILLING CODE 4331-21-P